FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202)-523-5793 or tradeanalysis@fmc.gov.

Agreement No.: 201391-001.

Agreement Name: South Atlantic Multiport Chassis Pool Agreement.

Parties: Ocean Carrier Equipment Management Association, Inc.; Consolidated Chassis Enterprises LLC; South Atlantic Consolidated Chassis Pool LLC; CCM Pools LLC; Consolidated Chassis Management LLC; Georgia Ports Authority; Jacksonville Port Authority; North Carolina State Ports Authority; COSCO SHIPPING Lines Co., Ltd.; Hapag-Lloyd AG and Hapag-Lloyd USA LLC (acting as a single party); Maersk A/S and Hamburg Sud (acting as a single party); MSC Mediterranean Shipping Company S.A.; Ocean Network Express Pte., Ltd.; Wan Hai Lines Ltd.; and Zim Integrated Shipping Services Ltd.

Filing Party: Joshua Stein; Cozen O'Connor.

Synopsis: The Amendment extends the Initial Term of the Agreement from 7 years to 10 years. The Amendment also clarifies the parties' respective rights at the expiration of the Initial Term.

Proposed Effective Date: 7/29/2023.

Location: https://www2.fmc.gov/FMC.Agreements.Web/Public/AgreementHistory/65506.

Dated: June 16, 2023.
William Cody,
Secretary.

[FR Doc. 2023-13253 Filed 6-21-23; 8:45 am]

BILLING CODE 6730-02-P